DEPARTMENT OF AGRICULTURE

Grain Inspection, Packers and Stockyards Administration

7 CFR Part 800

Suspension of Supervision Fee Assessment Under the United States Grain Standards Act

AGENCY: Grain Inspection Packers and Stockyards Administration, USDA.

ACTION: Notification of suspension of supervision fee assessment.

SUMMARY: The Department of Agriculture (USDA), Grain Inspection, Packers and Stockyards Administration (GIPSA) is suspending the fees that it charges for the supervision of official inspection and weighing services performed by delegated States and/or designated agencies under the United States Grain Standards Act (USGSA).

DATES: This document is effective beginning July 1, 2017, and remains in effect through June 30, 2018.

FOR FURTHER INFORMATION CONTACT: Denise Ruggles, USDA-GIPSA-FGIS-ODA; Telephone: (816) 659-8406; Email: Denise.M.Ruggles@usda.gov. Person with disabilities who require alternative means for communication (Braille, large print, audio tape, etc.) should contact the USDA Target Center at (202) 720-2600 (voice and TDD).

SUPPLEMENTARY INFORMATION: The Agriculture Reauthorizations Act of 2015, Public Law 114-54, amended the USGSA (7 U.S.C. 71-87k) to require GIPSA to adjust fees for the supervision of official grain inspection and weighing in order to maintain an operating reserve of not less than 3 and not more than 6 months (7 U.S.C. 79(j)(4)).

On June 28, 2016, GIPSA published a notice in the Federal Register suspending the supervision fee assessment, effective July 1, 2016, through June 30, 2017 (81 FR 41790). At the end of fiscal year 2016, GIPSA again reviewed its operating reserve to determine if the balance had attained the level required by the Agriculture Reauthorizations Act of 2015. GIPSA found that its fiscal year 2016 operating reserve for the supervision of official inspection and weighing was approximately $8.7 million, and continues to exceed the 6 month requirement by a significant margin.

Therefore, GIPSA is announcing that it is suspending for an additional year the fee for supervision of official inspection and weighing services of domestic grain and land carriers to Canada and Mexico performed by delegated States and/or designated agencies. According to the regulations under the USGSA, GIPSA may suspend any provision of the regulations in emergencies or other circumstances that would not impair the objectives of the USGSA (7 CFR 800.2). GIPSA has determined that suspending the supervision fees will not impair the objectives of the USGSA because the current operating reserve far exceeds that needed to maintain the service without additional funds.

GIPSA will continue the suspension of the assessment fee of $0.011 per metric ton on domestic shipments officially inspected and/or weighed, including land carrier shipments to Canada and Mexico, performed by delegated States and/or designated agencies on or after July 1, 2017 (7 CFR 800.71 Schedule B). These fees will remain suspended for 1 year, at which time GIPSA will reassess the operating reserve for supervision of official agency inspection and weighing.

Randall D. Jones,
Acting Administrator, Grain Inspection, Packers and Stockyards Administration.

[FR Doc. 2017-12032 Filed 6-9-17; 8:45 am]

BILLING CODE 3410-KD-P